DEPARTMENT OF ENERGY

Federal Energy Regulatory Commission

[Project No. P-12783-003]

Inglis Hydropower, LLC; Notice of Application Ready for Environmental Analysis and Soliciting Comments, Recommendations, Terms and Conditions, and Prescriptions

October 19, 2010.

Take notice that the following hydroelectric application has been filed with the Commission and is available for public inspection.

a. Type of Application: Original Major License.

b. Project No.: P-12783-003.

c. Date filed: July 22, 2009.

d. Applicant: Inglis Hydropower, LLC.

e. Name of Project: Inglis Hydropower Project.

f. Location: The project would be located at the existing Inglis bypass channel and spillway on the Withlacoochee River, west of Lake Rousseau and Inglis Dam, within the town of Inglis and Levy, Citrus, and Marion counties, Florida. No federal lands would be occupied by the proposed project.

g. Filed Pursuant to: Federal Power Act 16 U.S.C. 791(a)—825(r).

h. Applicant Contact: Mr. Dean Edwards, P.O. Box 1565, Dover, FL 33527; Mr. Kevin Edwards, P.O. Box 143, Mayodan, NC 27027.

i. FERC Contact: Jennifer Adams at (202) 502-8087, or jennifer.adams@ferc.gov.

j. The deadline for filing comments, recommendations, terms and conditions, and prescriptions is 60 days from the issuance of this notice and reply comments are due 105 days from the issuance date of this notice.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, or toll-free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis at this time.

l. The proposed 2.0-megawatt Inglis Hydropower Project would operate using flows released by the Southwest Water Management District from Lake Rousseau which is typically operated to maintain the water surface elevation of Lake Rousseau at 27.5 feet mean sea level. The proposed project would consist of: (1) A 45-foot-long, 100-foot-wide intake conveying water from the bypass channel located downstream of Lake Rousseau; (2) a 130-foot-long penstock consisting of two 14-foot by 14-foot reinforced concrete conduits; (3) a 60-foot-long, 80-foot-wide, 30-foot-high concrete powerhouse containing three vertical shaft turbines, two 0.8 megawatt (MW) turbines and one 0.4 MW turbine for a total installed capacity of 2.0 MW; (4) a 100-foot-long concrete discharge channel; (5) a new substation adjacent to the powerhouse; (6) a 120-foot-long, 24.5-kilovolt transmission line connecting the project substation to the local utility; and (7) appurtenant facilities. The Inglis Project would annually generate approximately 12,300 megawatt-hours.

m. A copy of the application is available for review at the Commission in the Public Reference Room or may be viewed on the Commission's Web site at http://www.ferc.gov. using the “eLibrary link.” Enter the docket number, excluding the last three digits in the docket number field, to access the document. For assistance, contact FERC Online Support. A copy is also available for inspection and reproduction at the address in item h above.

All filings must: (1) Bear in all capital letters the title “COMMENTS,” “REPLY COMMENTS,” “RECOMMENDA-TIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions, or prescriptions must set forth their evidentiary basis, and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via e-mail of new filings and issuances related to this, or other pending projects. For assistance, contact FERC Online Support.

n. Public notice of the filing of the initial development application, which has already been given, established the due date for filing competing applications or notices of intent. Under the Commission's regulations, any competing development application must be filed in response to, and in compliance with, public notice of the initial development application. No competing applications or notices of intent may be filed in response to this notice.

o. A license applicant must file, no later than 60 days following the date of issuance of this notice: (1) A copy of the water quality certification; (2) a copy of the request for certification, including proof of the date on which the certifying agency received the request; or (3) evidence of waiver of water quality certification.

Kimberly D. Bose,
Secretary.

[FR Doc. 2010-26990 Filed 10-25-10; 8:45 am]

BILLING CODE 6717-01-P